DEPARTMENT OF HOUSING AND URBAN DEVELOPMENT

[Docket No. FR-7035-N-02]

60-Day Notice of Proposed Information Collection: Coronavirus Aid, Relief, and Economic Security (CARES) Act Reporting Information Collection Request; OMB Control No: 2535-0123

AGENCY: Office of the Chief Financial Officer, HUD.

ACTION: Notice.

SUMMARY: HUD is seeking approval from the Office of Management and Budget (OMB) for the revision of existing information collection requests, as well as a new information request, described below. In accordance with the Paperwork Reduction Act, HUD is requesting comment from all interested parties on the proposed collection of information. The purpose of this notice is to allow for 60 days of public comment.

DATES: Comments Due Date: December 6, 2021.

ADDRESSES: Interested persons are invited to submit comments regarding this proposal. Comments should refer to the proposal by name and/or OMB Control Number and should be sent to: Anna Guido, Management Analyst, QDAM, Department of Housing and Urban Development, 451 7th Street SW, Room 4176, Washington, DC 20410-5000; telephone 202-402-5535 (this is not a toll-free number) or email at Anna.P.Guido@HUD.gov for a copy of the proposed forms or other available information. Persons with hearing or speech impairments may access this number through Teletype (TTY) by calling the toll-free Federal Relay Service at (800) 877-8339.

FOR FURTHER INFORMATION CONTACT: Dustin Hogenson, Department of Housing and Urban Development, 451 7th Street SW, Washington, DC 20410; telephone 202-402-6554, (this is not a toll-free number). Persons with hearing or speech impairments may access this number via TTY by calling the Federal Relay Service at (800) 877-8339. Copies of available documents submitted to OMB may be obtained from Dustin Hogenson.

SUPPLEMENTARY INFORMATION: This notice informs the public that HUD is seeking approval from OMB for the information collection described in Section A.

A. Overview of Information Collection

Title of Information Collection: CARES Act Reporting Information Collection Request.

OMB Approval Numbers:

2535-0123 Collection of required information for CARES Act Quarterly Reporting

Type of Request: Revisions of existing collections 2506-0133 (Housing Opportunities for Persons with AIDS (HOPWA) Program) 2506-0089 (Emergency Solutions Grant Data Collection), and 2506-0077 (Community Development Block Grant (CDBG) Entitlement Program) and a new collection activity under 2535-0123 (Collection of Required Information for CARES Act Quarterly Reporting).

Form Number(s)

OMB Control Numbers

• 2506-0133

• 2506-0089

• 2506-0077

Other affected forms and systems

• HUD-40110-C

• HUD-40110-D

• Integrated Disbursement and Information System (IDIS)

• Sage HMIS Reporting Repository

Description of the need for the information and proposed use: The change to the existing ICRs and renewal of the CARES Act Reporting ICR will enable HUD to collect from recipients of large covered funds, which are defined as CARES Act grants that exceed $150,000 in the aggregate, the quarterly information required to be in compliance with the requirements outlined in Section 15011 of the CARES Act.

This will revise and renew existing OMB control numbers 2506-0133, 2506-0089, and 2506-0077, to help improve compliance with CARES Act requirements. This information will be reported by the grant recipients to the program offices within HUD, then aggregated with the related information already approved. This aggregated information will form the required quarterly reporting for CARES Act funds that HUD submits to the Pandemic Response Accountability Committee (PRAC).

A new information collection request under OMB control number 2353-0123 is also being submitted that will allow the collection of grant recipient reporting information through a reporting portal. This portal is in development, and upon completion will enable certain HUD programs to collect and report information in line with CARES Act requirements.

Burden Estimates
Information collection | Number of respondents | Frequency of response | Responses per annum | Burden hour per response | Annual burden hours | Hourly cost per response | Annual cost
CDBG | 1,209 | 4 | 4,836 | 78.5 | 379,626 | 35.16 | 13,347,650.16
ESG | 2,360 | 4 | 9,440 | 12.75 | 120,360 | 39.96 | 4,809,585.60
HOPWA (HUD-40110-C) | 128 | 4 | 512 | 41 | 20,992 | 25.35 | 532,147.20
HOPWA (HUD-40110-D) | 116 | 4 | 464 | 55 | 25,520 | 25.35 | 646,932.00
IHBG | 792 | 4 | 3,168 | 1 | 3,168 | 25 | 79,200.00
TBRA/Op Fund | 1,230 | 4 | 4,920 | 2 | 9,840 | 35.16 | 345,974.40
Total | 5,835 | 4 | 23,340 |  | 559,506 |  | 19,761,489.36
*Please note: The CPD programs (CDBG, ESG, and HOPWA) in the table above reference existing ICRs under control numbers 2506-0113, 2506-0089, and 2506-0077. The PIH programs (IHBG, TBRA, Op Fund) will leverage the existing ICR under control number 2535-0123 to implement a new reporting portal.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Sairah R Ijaz,
Assistant Chief Financial Officer for Systems. The Office of the Chief Financial Officer.

[FR Doc. 2021-21669 Filed 10-4-21; 8:45 am]

BILLING CODE 4210-67-P